FEDERAL COMMUNICATIONS COMMISSION

Public Information Collections Approved by Office of Management and Budget

January 14, 2005.

SUMMARY: The Federal Communications Commission (FCC) has received Office of Management and Budget (OMB) approval for the following public information collections pursuant to the Paperwork Reduction Act of 1995, Public Law 104-13. An agency may not conduct or sponsor and a person is not required to respond to a collection of information unless it displays a currently valid control number.

FOR FURTHER INFORMATION CONTACT: Jeannie A. Benfaida, Federal Communications Commission, 445 12th Street, SW, Washington DC, 20554, (202) 418-2313 or via the Internet at jeannie.benfaida@fcc.gov.

SUPPLEMENTARY INFORMATION: OMB Control No.: 3060-1004.

OMB Approval Date: 01/30/2004.

Expiration Date: 01/31/2007.

Title: Wireless Telecommunications Bureau Standardizes Carrier Reporting on Wireless E911 Implementation.

Form No.: N/A.

Estimated Annual Burden: 1232 responses; 1362 total annual burden hours; 5 hours average per respondent.

Needs and Uses: Nationwide wireless carriers (Tier I) and mid-sized wireless carriers (Tier II) generally must file quarterly reports with the Commission on February 1, May 1, August 1 and November 1 of each year. Both Tier I and Tier II carriers must include with their quarterly reports an Excel spreadsheet detailing certain elements related to their E911 implementation status at Public Service Answering Points (PSAPs). Information reported on the spreadsheet as an appendix to the broader narrative set forth in the text of a carrier's the report, includes PSAP ID, PSAP Name, PSAP State, PSAP County; Implementation Phase; Air Interface; Date PSAP Request Made; Date PSAP Request Withdrawn; Invalid Request; Deployed; Date Deployed; Date Projected; Reasons; and Comment. Submission of the Excel spreadsheet will permit the Commission to track wireless E911 deployment, alert the Commission to any anticipated problems that could delay the implementation of E911 service nationwide, permit the Commission to track wireless E911 deployment in a more uniform and consistent manner, as well as inform and assist stakeholders in coordinating their deployment efforts.

Federal Communications Commission.
Marlene H. Dortch,
Secretary.

[FR Doc. 05-1368 Filed 1-25-05; 8:45 am]

BILLING CODE 6712-01-P